DEPARTMENT OF COMMERCE

International Trade Administration

[A-549-821]

Polyethylene Retail Carrier Bags From Thailand: Preliminary Results of Antidumping Duty Administrative Review

AGENCY: Import Administration, International Trade Administration, Department of Commerce.

SUMMARY: In response to requests from interested parties, the Department of Commerce (the Department) is conducting an administrative review of the antidumping duty order on polyethylene retail carrier bags (PRCBs) from Thailand. The review covers 11 companies. The period of review (POR) is August 1, 2009, through July 31, 2010. We have preliminarily determined that sales have been made below normal value by the companies subject to this review.

We invite interested parties to comment on these preliminary results. Parties who submit comments in this review are requested to submit with each argument (1) A statement of the issue and (2) a brief summary of the argument.

DATES: Effective Date: May 24, 2011.

FOR FURTHER INFORMATION: Bryan Hansen or Dustin Ross, AD/CVD Operations, Office 5, Import Administration, International Trade Administration, U.S. Department of Commerce, 14th Street and Constitution Avenue, NW., Washington, DC 20230; telephone: (202) 482-3683 or (202) 482-0747, respectively.

SUPPLEMENTARY INFORMATION:

Background

On August 9, 2004, the Department published in the Federal Register the antidumping duty order on PRCBs from Thailand. See Antidumping Duty Order: Polyethylene Retail Carrier Bags From Thailand, 69 FR 48204 (August 9, 2004). On September 29, 2010, we published a notice of initiation of an administrative review of 11 companies. See Initiation of Antidumping and Countervailing Duty Administrative Reviews and Requests for Revocation in Part, 75 FR 60076 (September 29, 2010).¹ Since initiation of the review, we selected Landblue (Thailand) Co., Ltd. (Landblue), and Thai Plastic Bags Industries Co., Ltd. (TPBI), for individual examination. See the “Selection of Respondents” section below. The order on PRCBs from Thailand was revoked in part with respect to merchandise produced and exported by TPBI, effective July 28, 2010.² Therefore, the POR for TPBI is August 1, 2009, through July 27, 2010.

¹ We stated that the review covers the following companies: First Pack Co. Ltd., Hi-Pack Company, Ltd., ITW Minigrip (Thailand) Co. Ltd., K International Packaging Co., Ltd., Landblue (Thailand) Co., Ltd., Praise Home Industry, Co. Ltd., Siam Flexible Industries Co., Ltd., Thai Jirun Co., Ltd., Thai Plastic Bags Industries Co., Ltd., Trinity Pac Co. Ltd., U. Yong Industry Co., Ltd. Id., 75 FR at 60078. The Department has determined previously that TPBI, APEC Film Ltd., and Winner's Pack Co., Ltd., comprise the Thai Plastic Bags Group. See Notice of Final Determination of Sales at Less Than Fair Value: Polyethylene Retail Carrier Bags From Thailand, 69 FR 34122, 34123 (June 18, 2004).

² See Notice of Implementation of Determination Under Section 129 of the Uruguay Round Agreements Act and Partial Revocation of the Antidumping Duty Order on Polyethylene Retail Carrier Bags From Thailand, 75 FR 48940 (August 12, 2010) (TPBI Revocation).

The POR is August 1, 2009, through July 31, 2010. We are conducting this review in accordance with section 751(a) of the Tariff Act of 1930, as amended (the Act).

Scope of the Order

The merchandise subject to the antidumping duty order is PRCBs, which may be referred to as t-shirt sacks, merchandise bags, grocery bags, or checkout bags. The subject merchandise is defined as non-sealable sacks and bags with handles (including drawstrings), without zippers or integral extruded closures, with or without gussets, with or without printing, of polyethylene film having a thickness no greater than 0.035 inch (0.889 mm) and no less than 0.00035 inch (0.00889 mm), and with no length or width shorter than 6 inches (15.24 cm) or longer than 40 inches (101.6 cm). The depth of the bag may be shorter than 6 inches but not longer than 40 inches (101.6 cm).

PRCBs are typically provided without any consumer packaging and free of charge by retail establishments, e.g., grocery, drug, convenience, department, specialty retail, discount stores, and restaurants, to their customers to package and carry their purchased products. The scope of the order excludes (1) Polyethylene bags that are not printed with logos or store names and that are closeable with drawstrings made of polyethylene film and (2) polyethylene bags that are packed in consumer packaging with printing that refers to specific end-uses other than packaging and carrying merchandise from retail establishments, e.g., garbage bags, lawn bags, trash-can liners.

As a result of changes to the Harmonized Tariff Schedule of the United States (HTSUS), imports of the subject merchandise are currently classifiable under statistical category 3923.21.0085 of the HTSUS. Furthermore, although the HTSUS subheading is provided for convenience and customs purposes, the written description of the scope of the order is dispositive.

Selection of Respondents

Due to the large number of companies for which a request for a review had been made and the resulting administrative burden to examine each company, the Department exercised its authority to limit the number of respondents selected for examination. Where it is not practicable to examine all known exporters/producers of subject merchandise because of the large number of such companies, section 777A(c)(2) of the Act allows the Department to limit its examination to either a sample of exporters, producers, or types of products that is statistically valid, based on the information available at the time of selection, or exporters and producers accounting for the largest volume of subject merchandise from the exporting country that can be reasonably examined.

Accordingly, based on our analysis of U.S. Customs and Border Protection (CBP) import data on the record of this review (see letters from Laurie Parkhill to the Polyethylene Retail Carrier Bag Committee and its individual members, Hilex Poly Co., LLC, and Superbag Corp., and to TPBI dated October 6, 2010, and to Landblue dated October 21, 2010) and our available resources, we selected Landblue and TPBI for individual examination. See Memorandum to Laurie Parkhill regarding respondent selection dated October 29, 2010.

Non-Selected Respondents

The Department normally calculates a weighted-average margin of the examined companies and then applies that margin to companies not examined individually. See section 735(c)(5)(A) of the Act (providing for this analysis in calculating the “all others” rate in investigations). We cannot calculate such a rate in this case, however, because with only two companies being individually examined such a calculation would reveal business-proprietary information impermissibly to the respondents we have selected for individual examination.

In such situations, it is our normal practice to use one of two alternative methodologies. We might calculate a weighted-average antidumping margin using the publicly available ranged U.S. sales values and antidumping duty margins of the two selected respondents or we might calculate a simple average of the margins we have determined for the two companies we have selected for individual examination. See Ball Bearings and Parts Thereof From France, et al.: Final Results of Antidumping Duty Administrative Reviews, Final Results of Changed-Circumstances Review, and Revocation of an Order in Part, 75 FR 53661 (September 1, 2010), and accompanying Issues and Decision Memorandum at Comment 1. The methodology we choose depends on which result is closer to the actual weighted-average margin we can calculate using the information in the margin calculations of the companies we selected for individual examination. See id.

In this review, we have preliminarily concluded that the weighted-average margin we calculated using Landblue's and TPBI's ranged U.S. sales values is closer to the actual weighted-average margin of these companies than the margin we calculated using the simple average. Accordingly, we have applied, for these preliminary results, the rate of 30.22 percent to the firms not individually examined in this review using the weighted-average margin we determined using public ranged U.S. sales values Landblue and TPBI submitted for the record of the review. See the Memorandum to the File concerning Margin Calculation for Respondents Not Selected for Individual Examination dated concurrently with this notice for an explanation of our calculations.

No-Shipments Respondents

On October 29, 2010, Hi-Pack Company, Ltd. (Hi-Pack), and on December 10, 2010, ITW Minigrip (Thailand) Co. Ltd. (ITW Minigrip) submitted letters indicating that they made no sales to the United States during the POR. We have not received any comments on the submissions from Hi-Pack or ITW Minigrip. We confirmed Hi-Pack's and ITW Minigrip's claims of no shipments by issuing “No-Shipments Inquiry” messages to CBP on November 10, 2010, and December 28, 2010, respectively.

With regard to Hi-Pack's and ITW Minigrip's claims of no shipments, our practice since implementation of the 1997 regulations concerning no-shipments respondents has been to rescind the administrative review if the respondent certifies that it had no shipments and we have confirmed through our examination of CBP data that there were no shipments of subject merchandise during the POR. See Antidumping Duties; Countervailing Duties, 62 FR 27296, 27393 (May 19, 1997), and Oil Country Tubular Goods From Japan: Final Results and Partial Rescission of Antidumping Duty Administrative Review, 71 FR 95 (January 3, 2006). As a result, in such circumstances, we have normally instructed CBP to liquidate any entries from the no-shipment company at the deposit rate in effect on the date of entry.

In our May 6, 2003, “automatic assessment” clarification, we explained that, where respondents in an administrative review demonstrate that they had no knowledge of sales through resellers to the United States, we would instruct CBP to liquidate such entries at the all-others rate applicable to the proceeding. See Antidumping and Countervailing Duty Proceedings: Assessment of Antidumping Duties, 68 FR 23954 (May 6, 2003) (May 2003 Clarification).

Based on the assertions by Hi-Pack and ITW Minigrip of no shipments and no indication from CBP that there are suspended entries of subject merchandise from these firms, we preliminarily determine that they had no sales to the United States during the POR.

Because “as entered” liquidation instructions do not alleviate the concerns which the May 2003 Clarification was intended to address, we find it appropriate in this case to instruct CBP to liquidate any existing entries of merchandise produced by Hi-Pack and ITW Minigrip at the all-others rate should we continue to find at the time of our final results that these firms had no shipments of subject merchandise from Thailand. See Magnesium Metal From the Russian Federation: Preliminary Results of Antidumping Duty Administrative Review, 75 FR 26922, 26933 (May 13, 2010), unchanged in Magnesium Metal From the Russian Federation: Final Results of Antidumping Duty Administrative Review, 75 FR 56989 (September 17, 2010). See also Certain Frozen Warmwater Shrimp from India: Partial Rescission of Antidumping Duty Administrative Review, 73 FR 77610, 77612 (December 19, 2008). In addition, the Department finds that it is more consistent with the May 2003 Clarification not to rescind the review in part in these circumstances but, rather, to complete the review with respect to Hi-Pack and ITW Minigrip and issue appropriate instructions to CBP based on the final results of the review. See the “Assessment Rates” section of this notice below.

Export Price

For the price to the United States for Landblue and TPBI, we used export price (EP) as defined in section 772(a) of the Act. We calculated EP based on the packed free-on-board, delivered, or ex-works price to unaffiliated purchasers in, or for exportation to, the United States. See section 772(c) of the Act. We made deductions for any movement expenses in accordance with section 772(c)(2)(A) of the Act. In accordance with section 772(c)(1)(B) of the Act, we made adjustments for duty drawback under Section 19 bis of the Thailand Customs Act (No. 9) B.E. 2482 claimed by TPBI. For a detailed explanation of our calculations, see the company-specific analysis memoranda dated concurrently with this notice.

Comparison Market

Based on a comparison of the aggregate quantity of home-market and U.S. sales and absent any information that a particular market situation in the exporting country did not permit a proper comparison, we determined that the quantity of foreign like product sold by TPBI in Thailand was sufficient to permit a proper comparison with the sales of the subject merchandise to the United States, pursuant to section 773(a) of the Act. TPBI's quantity of sales in Thailand was greater than five percent of its quantity of sales to the U.S. market. See section 773(a)(1) of the Act. Therefore, in accordance with section 773(a)(1)(B)(i) of the Act, we based normal value on the prices at which the foreign like product was first sold for consumption in Thailand in the usual commercial quantities, in the ordinary course of trade, and at the same level of trade as TPBI's U.S. sales.

We determined that the quantity of foreign like product sold by Landblue in Thailand and to third countries was insufficient to permit a proper comparison with the sales of the subject merchandise to the United States pursuant to section 773(a) of the Act. Therefore, for Landblue, we used constructed value as the basis of normal value in accordance with section 773(e) of the Act.

Cost of Production

In accordance with section 773(b) of the Act, we disregarded the below-cost sales of TPBI in the most recent administrative review of this company completed before the initiation of this review. See Polyethylene Retail Carrier Bags From Thailand: Final Results of Antidumping Duty Administrative Review, 74 FR 65751 (December 11, 2009). Therefore, we have reasonable grounds to believe or suspect that TPBI's sales of the foreign like product under consideration for the determination of normal value in this review may have been made at prices below the cost of production (COP) as provided by section 773(b)(2)(A)(ii) of the Act. Accordingly, pursuant to section 773(b)(1) of the Act, we have conducted a COP analysis of TPBI's sales in Thailand in this review.

In accordance with section 773(b)(3) of the Act, we calculated the COP based on the sum of the costs of materials and fabrication employed in producing the foreign like product, the selling, general, and administrative (SG&A) expenses, and all costs and expenses incidental to packing the merchandise. In our COP analysis, we used the home-market sales and COP information TPBI provided in its questionnaire responses.

We relied on the COP data submitted by TPBI, including its allocation of costs for ink, plate, and solvents, except as follows:

1. With respect to the allocation of direct labor, variable overhead, and fixed overhead costs, we have preliminarily determined that the methodology reported by TPBI unreasonably distorts the cost of manufacture for the subject merchandise and the foreign like product. This reported methodology is not only inconsistent with the methodology applied by TPBI in its books and records, it also results in a large variability in costs that have nothing to do with physical differences in the merchandise. Accordingly, pursuant to section 776(a) of the Act, as facts otherwise available, we have weight-averaged TPBI's actual reported costs on a per-unit basis. Where TPBI's methodology results in significant differences in costs between physically similar merchandise, the Department's methodology allocates direct labor and overhead costs evenly across all of the merchandise TPBI produced. In this manner, the Department is able to diminish the possibility of under- or over-valuation of TPBI's costs. See Statement of Administrative Action, URAA, H. Doc. 316, Vol. 1, 103rd Cong. (1994), at 834-5 (stating that, if the Department determines that costs reported by a respondent “shifted away costs from the production of the subject merchandise, or the foreign like product,” the Department has the authority to “adjust costs appropriately to ensure that they (the costs) are not artificially reduced”).

2. We adjusted TPBI's reported general and administrative (G&A) expense to remove an offset claimed by TPBI for revenue associated with the Government of Thailand's Blue Corner Rebate program because its claimed refunds relate to the export of merchandise and not the cost to produce its products. In addition, we included bank charges, office salaries, and claims expenses in the G&A expense rate calculation as these costs appear to relate to the general operations of the company.

For additional details on these adjustments, see memorandum entitled “Cost of Production and Constructed Value Calculation Adjustments for the Preliminary Results—Thai Plastic Bags Industries Co., Ltd.” dated concurrently with this notice.

Results of Cost Test and Cost-Recovery Test

After calculating the COP in accordance with section 773(b)(1) of the Act, we tested whether home-market sales of the foreign like product for TPBI were made at prices below the COP within an extended period of time in substantial quantities and whether such prices permitted the recovery of all costs within a reasonable period of time. See section 773(b)(2) of the Act. We compared model-specific COPs to the reported home-market prices less any applicable movement charges, discounts, and rebates.

Pursuant to section 773(b)(2)(C) of the Act, when less than 20 percent of TPBI's sales of a given product were made at prices less than the COP, we did not disregard any below-cost sales of that product because the below-cost sales were not made in substantial quantities within an extended period of time. When 20 percent or more of TPBI's sales of a given product during the POR were made at prices less than the COP, we disregarded the below-cost sales because they were made in substantial quantities within an extended period of time pursuant to sections 773(b)(2)(B) and (C) of the Act.

Further, in accordance with section 773(b)(2)(D) of the Act, we compared prices to weighted-average per-unit COPs for the POR and determined that these sales were at prices which would not permit recovery of all costs within a reasonable period of time. We examined the cost data and determined that our quarterly cost methodology is not warranted and, therefore, we have applied our standard methodology of using annual costs based on the data TPBI reported, adjusted as described in the “Cost of Production” section above. Because we are applying our standard annual-average cost test in these preliminary results, we have also applied our standard cost-recovery test with no adjustments. Based on both of these tests, we disregarded certain sales made by TPBI in the home market which were made at below-cost prices.

Model-Matching Methodology

With respect to TPBI, in making our comparisons of U.S. sales with sales of the foreign like product in the home market, we used the following methodology. If an identical comparison-market model with identical physical characteristics as listed below was reported, we made comparisons to weighted-average home-market prices that were based on all sales which passed the COP test of the identical product during a contemporaneous month. If there were no contemporaneous sales of an identical model, we identified the most similar home-market model. To determine the most similar model, we matched the foreign like product based on physical characteristics reported by the respondent in the following order of importance: (1) Quality, (2) bag type, (3) length, (4) width, (5) gusset, (6) thickness, (7) percentage of high-density polyethylene resin, (8) percentage of low-density polyethylene resin, (9) percentage of low linear-density polyethylene resin, (10) percentage of color concentrate, (11) percentage of ink coverage, (12) number of ink colors, and (13) number of sides printed.

Normal Value

With respect to TPBI, we based home-market prices on the packed, ex-factory, or delivered prices to unaffiliated purchasers. When applicable, we made adjustments for differences in packing and for movement expenses in accordance with sections 773(a)(6)(A) and (B) of the Act. We also made adjustments for differences in cost attributable to differences in physical characteristics of the merchandise pursuant to section 773(a)(6)(C)(ii) of the Act and 19 CFR 351.411, adjusted as described in the “Cost of Production” section above, and for differences in circumstances of sale in accordance with section 773(a)(6)(C)(iii) of the Act and 19 CFR 351.410. We made circumstance-of-sale adjustments by deducting home-market direct selling expenses from and adding U.S. direct selling expenses to normal value. U.S. direct selling expenses included bank charges incurred on payments received on export sales.

TPBI has stated that its 2010 audited financial statements will not be available until May 2011. We have requested that TPBI provide copies of these statements within seven days of their completion. Therefore, we are using TPBI's 2009 financial statements for purposes of these preliminary results and intend to use its 2010 statements for the final results of review.

In accordance with section 773(a)(1)(B)(i) of the Act, we based normal value at the same level of trade as the EP sales. See the “Level of Trade” section below.

Constructed Value

In accordance with section 773(a)(4) of the Act, we used constructed value for TPBI where we did not find an identical or similar item sold in the home market or when the identical or similar item was disregarded because it was below cost. We calculated constructed value in accordance with section 773(e) of the Act. We included the cost of materials and fabrication, adjusted for TPBI as described in the “Cost of Production” section above. We also included SG&A expenses, U.S. packing expenses, and profit in the calculation of constructed value. In accordance with section 773(e)(2)(A) of the Act, we based SG&A expenses and profit on the amounts incurred and realized by TPBI in connection with the production and sale of the foreign like product in the ordinary course of trade for consumption in the home market.

In accordance with section 773(a)(4) of the Act, we used constructed value for Landlbue as the basis for normal value because Landblue's sales of foreign like product in its home market and to third countries were less than five percent of the volume of subject merchandise sales to the United States. We calculated constructed value in accordance with section 773(e) of the Act. We included Landblue's reported cost of materials and fabrication. We also added Landblue's G&A expenses, revised to include certain expense items Landblue had omitted. Finally, in accordance with section 773(e)(2)(B)(iii) of the Act, because Landblue had no sales in the home market or to any third countries, we added selling expenses and profit based on publically available financial statements for the fiscal year most contemporaneous with the POR of a company in Thailand, Thantawan Industry Public Company Limited (Thantawan). Thantawan produces products in the same general category of merchandise as PRCBs.

For a detailed explanation of the calculation of constructed value for TPBI and Landblue, see the respective analysis memoranda for Landblue and TPBI dated concurrently with this notice.

Level of Trade

To the extent practicable, for TPBI we determined normal value for sales at the same level of trade as the U.S. sales. The level of trade for normal value is that of the starting-price sales in the home market. When normal value is based on constructed value, the level of trade is that of the sales from which we derived SG&A expense and profit.

To determine whether home-market sales for TPBI were at a different level of trade than U.S. sales, we examined stages in the marketing process and selling functions along the chain of distribution between the producer and the unaffiliated customer. This analysis revealed that there were not any significant differences in selling functions between different channels of distribution or customer type in either the home or U.S. markets. Therefore, we determined that TPBI made all home-market sales at one level of trade. Moreover, we determined that all home-market sales by TPBI were made at the same level of trade as its U.S. sales. For a more detailed discussion, see the analysis memo for TPBI dated concurrently with this notice. Accordingly, we compared TPBI's U.S. sales to its home-market sales, all of which were made at the same level of trade.

Because Landblue had no viable home or third-country market and because we used another company's financial statement to calculate profit and selling expenses for constructed value, no level-of-trade analysis is necessary.

Preliminary Results of Review

As a result of our review, we preliminarily determine that the following percentage weighted-average dumping margins on PRCBs from Thailand exist for the period August 1, 2009, through July 31, 2010 (through July 27, 2010, for TPBI):

³ No shipment or sales subject to this review. This firm has no individual rate from a previous segment of this proceeding.

⁴ No shipment or sales subject to this review. This firm has no individual rate from a previous segment of this proceeding.

Company | Margin percent
First Pack Co. Ltd. | 30.22
Hi-Pack Company, Ltd. | (³)
ITW Minigrip (Thailand) Co. Ltd. | (⁴)
K International Packaging Co., Ltd. | 30.22
Landblue (Thailand) Co., Ltd. | 27.82
Praise Home Industry, Co. Ltd. | 30.22
Siam Flexible Industries Co., Ltd. | 30.22
Thai Jirun Co., Ltd. | 30.22
Thai Plastic Bags Industries Co., Ltd. | 35.79
Trinity Pac Co. Ltd. | 30.22
U. Yong Industry Co., Ltd. | 30.22

Disclosure and Public Comment

We will disclose the calculations used in our analysis to interested parties to this review within five days of the date of publication of this notice. See 19 CFR 351.224(b). Any interested party may request a hearing within 30 days of the date of publication of this notice. See 19 CFR 351.310. Interested parties who wish to request a hearing or to participate in a hearing if a hearing is requested must submit a written request to the Assistant Secretary for Import Administration within 30 days of the date of publication of this notice. Requests should contain the following information: (1) The party's name, address, and telephone number; (2) the number of participants; (3) a list of issues to be discussed. See 19 CFR 351.310(c).

Issues raised in the hearing will be limited to those raised in the case briefs. See 19 CFR 351.310(c). Case briefs from interested parties may be submitted within 30 days of the date of publication of this notice. See 19 CFR 351.309(c)(1)(ii). Rebuttal briefs from interested parties, limited to the issues raised in the case briefs, may be submitted not later than five days after the time limit for filing the case briefs or comments. See 19 CFR 351.309(d)(1). If requested, any hearing will be held two days after the scheduled date for submission of rebuttal briefs. See 19 CFR 351.310(d). Parties who submit case briefs or rebuttal briefs in this review are requested to submit with each argument a statement of the issue, a summary of the arguments not exceeding five pages, and a table of statutes, regulations, and cases cited. See 19 CFR 351.309(c)(2). The Department will issue the final results of this administrative review, including the results of its analysis of issues raised in any such written briefs or at the hearing, if held, not later than 120 days after the date of publication of this notice. See section 751(a)(3)(A) of the Act.

Assessment Rates

The Department shall determine, and CBP shall assess, antidumping duties on all appropriate entries. In accordance with 19 CFR 351.212(b)(1), we have calculated for TPBI and Landblue an importer (or customer)-specific assessment value for merchandise subject to this review by dividing the total dumping margin (calculated as the difference between normal value and EP) for each importer or customer by the total kilograms the exporter sold to that importer or customer. We will instruct CBP to assess the resulting per-kilogram amount against each kilogram of merchandise in each of that importer's/customer's entries during the POR.

As discussed above, the Department clarified its “automatic assessment” regulation on May 6, 2003. This clarification applies to entries of subject merchandise during the POR produced by TPBI and Landblue for which they did not know their merchandise was destined for the United States. In such instances, we will instruct CBP to liquidate unreviewed entries at the all-others rate if there is no rate for the intermediate company(ies) involved in the transaction. For a full discussion of this clarification, see May 2003 Clarification.

For the companies which were not selected for individual examination, we will instruct CBP to apply the rates listed above to all entries of subject merchandise produced and/or exported by such firms.

Consistent with the May 2003 Clarification, for Hi-Pack and ITW Minigrip, which claimed they had no shipments of subject merchandise to the United States, we will instruct CBP to liquidate any applicable entries of subject merchandise at the all-others rate.

We intend to issue liquidation instructions to CBP 15 days after publication of the final results of review.

Cash-Deposit Requirements

The following deposit requirements will be effective upon publication of the notice of final results of administrative review for all shipments of PRCBs from Thailand entered, or withdrawn from warehouse, for consumption on or after the date of publication, as provided by section 751(a)(2) of the Act: (1) The cash-deposit rates for the reviewed companies ⁵ will be the rates established in the final results of review; (2) for previously reviewed or investigated companies not listed above, the cash-deposit rate will continue to be the company-specific rate published for the most recent period; (3) if the exporter is not a firm covered in this review, a prior review, or the less-than-fair-value investigation but the manufacturer is, the cash-deposit rate will be the rate established for the most recent period for the manufacturer of the merchandise; (4) if neither the exporter nor the manufacturer has its own rate, the cash-deposit rate will be 4.69 percent (see TPBI Revocation). These deposit requirements, when imposed, shall remain in effect until further notice.

⁵ The prospective cash-deposit requirement will not apply to merchandise produced and exported by TPBI. See TPBI Revocation.

Notification to Importer

This notice also serves as a preliminary reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

These preliminary results of administrative review are issued and published in accordance with sections 751(a)(1) and 777(i)(1) of the Act.

Dated: May 18, 2011.
Ronald K. Lorentzen,
Deputy Assistant Secretary for Import Administration.

[FR Doc. 2011-12804 Filed 5-23-11; 8:45 am]

BILLING CODE 3510-DS-P